DEPARTMENT OF ENERGY

Federal Energy Regulatory Commission

[Docket No. RP04-25-003]

Texas Eastern Transmission, LP; Notice of Compliance Filing

December 30, 2004.

Take notice that on December 15, 2004, Texas Eastern Transmission, LP (Texas Eastern) tendered for filing further explanation regarding the calculation of its TIME Project Applicable Shrinkage Adjustment (ASA) surcharge, initially set forth in the October 17, 2003 annual ASA filing. Texas Eastern states that the instant filing is made pursuant to the “Order On Compliance Filing,” issued by the Commission on November 23, 2004 in the captioned docket (November 23 Order, 109 FERC ¶ 61,212 (2004)).

Texas Eastern states that ordering paragraph “C” of the November 23 Order directs it to provide additional explanation that supports the proposed exclusion of system ASA cost elements from the TIME Project ASA Surcharge rate. Texas Eastern states that it is including Attachment II, Schedule B of the October 17 Filing, as well as that of the 2004 ASA tracker filing, which lists the cost elements used in determining the system ASA Surcharge rate, in Appendix A to the filing.

Texas Eastern states that copies of the filing have been served upon all parties on the official service list.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. Eastern Time on January 10, 2005.

Magalie R. Salas,
Secretary.

[FR Doc. E5-9 Filed 1-5-05; 8:45 am]

BILLING CODE 6717-01-P